DEPARTMENT OF THE INTERIOR

Fish and Wildlife Service

Notice of Availability of Draft Report of Findings Under the Native American Graves Protection and Repatriation Act on a Feathered Headdress in the Possession of the Department of the Interior, Fish and Wildlife Service, Washington, DC

AGENCY: Fish and Wildlife Service, Interior.

ACTION: Notice of availability.

SUMMARY: Notice is hereby given in accordance with provisions of the Native American Graves Protection and Repatriation Act (NAGPRA) of the availability of the Report of Findings on a feathered headdress in the possession of the U.S. Fish and Wildlife Service (Service) and in the control of the Department of the Interior (DOI). This notice is given so that the Service may continue to fulfill its obligations under NAGPRA by distributing its findings for review by all interested parties. Copies of this report have already been provided to the requesting Tribes.

DATES: We must receive comments by February 20, 2007.

ADDRESSES: Please submit written comments to the Assistant Director, National Wildlife Refuge System, 1849 C Street, NW., Washington, DC 20240, attention: Eugene Marino or by FAX (703) 358-2517.

FOR FURTHER INFORMATION CONTACT: Mr. Eugene Marino, Service Archaeologist, (703) 358-2173.

SUPPLEMENTARY INFORMATION: The object in question is a feathered headdress that was forfeited to the United States Government in November 2001 as part of a guilty plea agreement resulting from an attempt to sell it in violation of Sections 703 and 707(a) of the Migratory Bird Treaty Act (16 U.S.C. 703-711). After consulting with various parties, the United States District Court for the Eastern District of Pennsylvania ruled that the forfeited object would be turned over to the Department of the Interior for care and disposition under the Native Graves Protection and Repatriation Act (NAGPRA), 25 U.S.C. 3001, et seq., and as codified in 43 CFR 10.8. The headdress is ornamented with golden eagle feathers and is now under the control of the DOI and in the possession of the Service.

An initial assessment of the object indicates that it was likely manufactured during the first decade of the 20th Century. Documentation submitted to the Court during the trial alleges that the headdress was manufactured for use in “The Last Pow-Wow,” a gathering of tribal chiefs, which occurred in 1907 in Collinsville, Indian Territory, which is now the State of Oklahoma. The Comanche Chief Quannah Parker purportedly offered the headdress to the Apache Chief Geronimo for use during the event. Other documentation submitted for the Court's consideration alleges that Chief Geronimo took possession of the headdress and subsequently gave it to his Government escort, Jack Moore, as an act of friendship. After Geronimo's death in 1909, Jack Moore allegedly gave the headdress to an acquaintance, whose family retained the object until an attempt was made to sell it illegally in 1999.

The Report of Findings documents the review of the headdress under NAGPRA for two claims received, one by the Comanche Nation and the other by the Mescalero Apache.

The Report notes that for the Comanche Nation, the preponderance of evidence submitted to the Service does not indicate a relationship of shared group identity between the present day tribe—the Comanche Nation—and an identifiable earlier group—the Chiricahua Apache—with whom the headdress is associated [43 CFR 10.2 (4) and (4e)]. Given the inability of the Comanche to provide evidence supporting their assertion of cultural affiliation, the Service is unable to evaluate their claim for the headdress as an object of cultural patrimony under NAGPRA.

The report notes that for the Mescalero Apache, the preponderance of evidence submitted to the Service does indicate a relationship of shared group identity between an identifiable earlier group—the Chiricahua Apache—with whom the headdress is associated [43 CFR 10.2 4 and e] and the Mescalero Apache—the present day tribe culturally affiliated to the object.

The Service evaluation of the headdress as an object of cultural patrimony for the Mescalero Apache finds that the headdress does not meet the definition of an object of cultural patrimony under NAGPRA (43 CFR 10.4). Evidence provided to support the request connects the headdress to Geronimo—a member of the Chiricahua Apache—and asserts that the headdress was `constructed' solely for distribution to attendees of the 1907 Pow Wow and was given to Geronimo in that capacity.

The Service continues to manage the object as a forfeited item and has not accessioned it into the Service's Museum Property inventory. Although evidence collected as part of the NAGPRA Report of Findings does not support a decision to repatriate the headdress to the Mescalero Apache or Comanche Nation as an “object of cultural patrimony,” the Service intends to transfer the headdress to both Tribes following procedures under 50 CFR Subpart D 12.33. This regulation permits the donation of forfeited items for scientific, educational, or public display purposes to any person who demonstrates the ability to provide adequate care and security for the object. A 2003 Compromise and Settlement Agreement signed by both Tribes stipulates terms of care and security for the object that follow standards established by the American Association of Museums (AAM). The Service finds this agreement to be satisfactory to ensuring the necessary level of care and security for the headdress as required under 50 CFR part 12.

The announcement of this report makes available our draft findings for review by interested parties and continues to fulfill the Service's requirements under NAGPRA and announces our intentions for disposition.

Dated: January 9, 2007.
Kenneth Stansell,
Acting Director, U.S. Fish and Wildlife Service.

[FR Doc. E7-759 Filed 1-18-07; 8:45 am]

BILLING CODE 4310-55-P